DEPARTMENT OF TRANSPORTATION

Federal Aviation Administration

14 CFR Part 71

[Docket No. FAA-2020-1193; Airspace Docket No. 20-AAL-28]

RIN 2120-AA66

Establishment of Class E Airspace; Hughes, AK

AGENCY: Federal Aviation Administration (FAA), DOT.

ACTION: Final rule.

SUMMARY: This action establishes Class E airspace extending upward from 700 feet above the surface at Hughes Airport, Hughes, AK, to accommodate new area navigation (RNAV) procedures. This action will ensure the safety and management of instrument flight rules (IFR) operations within the National Airspace System.

DATES: Effective 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of FAA Order 7400.11E at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the Agency's authority. This rulemaking is promulgated under the authority described in Subtitle VII, Part A, Subpart I, Section 40103. Under that section, the FAA is charged with prescribing regulations to assign the use of airspace necessary to ensure the safety of aircraft and the efficient use of airspace. This regulation is within the scope of that authority as it will establish Class E airspace to support new RNAV procedures at Hughes Airport, Hughes AK, for the safety and management of aircraft within the National Airspace System.

History

The FAA published a notice of proposed rulemaking in the Federal Register (86 FR 6279; January 21, 2021) for Docket No. FAA-2020-1193 to establish Class E airspace extending upward from 700 feet above the earth at Hughes Airport, Hughes AK, in support of IFR operations. Interested parties were invited to participate in this rulemaking effort by submitting written comments on the proposal to the FAA. Two comments were received. One commenter supported the establishment of airspace in support of IFR operations. The other commenter stated that the new airspace would cause people to stay at an unsafe altitude when flying in poor weather. The FAA does not concur. This new volume of airspace does not preclude aircraft from flying in this area, but will provide additional protection in marginal weather. The floor of the new airspace will be 700 feet AGL versus 1,200 feet AGL. It will expand the basic VFR weather minimums visibility requirement, in this airspace, from 1 mile to 3 miles and the clearance from clouds will change from clear of clouds to 500 feet below the clouds, 1,000 feet above and 2,000 feet horizontally. The new airspace expands the opportunity for operations in both instrument and visual meteorological conditions and increases the efficiency of the airport and safety of operations in the area.

Class E airspace designations are published in paragraph 6005 of FAA Order 7400.11E, dated July 21, 2020 and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by establishing Class E airspace extending upward from 700 feet above the surface at Hughes Airport, Hughes AK.

The Class E airspace will be established within a 3.8-mile radius of the airport and within an area 2 miles each side of the 194° bearing extending from the airport 6.4 miles south. This area will protect aircraft on approach to runway 36 as they descend through 1,500 feet above ground level (AGL). In addition, an extension in the shape of a dogleg will be established 1.8 miles each side of the 14° bearing extending from the 3.8-mile radius to 6 miles north of the airport and then 1.8 miles each side of the 39° bearing from a point in space, lat. 66°08′14″ N, long. 154°12′17″ W, forming an angle that extends from the 3.8-mile radius northeast 9.5 miles from the airport. This section will protect aircraft on approach to runway 18 descending through 1,500 feet AGL and those aircraft on departure until reaching 1,200 feet AGL.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order (E.O.) 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July, 21, 2020 and effective September 15, 2020, is amended as follows:

Paragraph 6005 Class E Airspace.

* * * * *

AAL AK E5 Hughes, AK [New]

Hughes Airport, AK

(66°02′21″ N, 154°15′53″ W)

That airspace within a 3.8-mile radius of Hughes Airport, AK, and that airspace 2 miles each side of the 194° bearing extending from the 3.8-mile radius south 6.4 miles from the airport, and that airspace extending from the 3.8-mile radius beginning 1.8 miles west of the 14° bearing to lat. 66°08′55″ N, long. 154°16′32″ W to lat. 66°12′15″ N, long. 154°10′06″ W to lat. 66°10′03″ N, long. 154°03′03″ W to lat. 66°07′23″ N, long. 154°08′18″ W to the point on the 3.8-mile radius 1.8 miles east of the 14° bearing.

Issued in Des Moines, Washington, on April 9, 2021.
B.G. Chew,
Acting Group Manager, Operations Support Group, Western Service Center.

[FR Doc. 2021-07667 Filed 4-14-21; 8:45 am]

BILLING CODE 4910-13-P